DEPARTMENT OF JUSTICE

Antitrust Division

Notice Pursuant to the National Cooperative Research and Production Act of 1993—ODVA, Inc.

Notice is hereby given that, on February 1, 2016, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Shen Zhen General Measure Technology Co., Ltd., Shenzhen, PEOPLE'S REPUBLIC OF CHINA; Beijing Tiandi-Marco Electro-Hydraulic Control System Co., Ltd., Beijing, PEOPLE'S REPUBLIC OF CHINA; Emerson Process Management Lllp, Bloomington, MN; and Zumbach Electronics Corp., Mount Kisco, NY, have been added as parties to this venture.

Also, Zhuzhou CSR Times Electric Co., Ltd., ZhuZhou City, PEOPLE'S REPUBLIC OF CHINA; Ecava Sdn Bhd, Kuala Lumpur, MALAYSIA; Jain Technology Co., Ltd., Seoul, REPUBLIC OF KOREA; MicroControl GmbH & Co., Troisdorf, GERMANY; JVL Industri Elektronik A/S, Birkerod, DENMARK; and SABO Elektronik GmbH, Schwerte, GERMANY, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on October 30, 2015. A notice was published in the Federal Register pursuant to Section 6(b) of the Act on December 7, 2015 (80 FR 76043).

Patricia A. Brink,
Director of Civil Enforcement, Antitrust Division.

[FR Doc. 2016-04099 Filed 2-25-16; 8:45 am]

BILLING CODE P